DEPARTMENT OF COMMERCE

National Oceanic and Atmospheric Administration

RIN 0648-XA512

Caribbean Fishery Management Council; Public Meeting

AGENCY: National Marine Fisheries Service (NMFS), National Oceanic and Atmospheric Administration (NOAA), Commerce.

ACTION: Notice of public meeting.

SUMMARY: The Catch Share Panel of the Caribbean Fishery Management Council will hold a public meeting to discuss the issues contained in the enclosed agenda.

DATES: The meeting will be held on July 20, 2011, from 7 p.m. to 9:30 p.m.

ADDRESSES: The meeting will be held at the Holiday Inn Hotel in Mayaguez, Puerto Rico.

FOR FURTHER INFORMATION CONTACT: Caribbean Fishery Management Council, 268 Munoz Rivera Avenue, Suite 1108, San Juan, Puerto Rico 00918-2577; telephone: (787) 766-5926.

SUPPLEMENTARY INFORMATION: The Catch Share Panel of The Caribbean Fishery Management Council will hold a public meeting to discuss the following agenda items:

• Discussion Outline of Work Done and Schedule of Meetings.

• Next Surveys:

—Landings Data.

—Socio-Economic Aspects Deep-Water Fish Fishery.

• Other Issues.

Special Accomodations

This meeting is physically accessible to people with disabilities. Simultaneous interpretation will be provided (English-Spanish) if necessary. For more information or request for sign language interpretation and other auxiliary aids, please contact Mr. Miguel A. Rolon, Executive Director, Caribbean Fishery Management Council, 268 Munoz Rivera Avenue, Suite 1108, San Juan, Puerto Rico, 00918-2577; telephone: (787) 766-5926, at least 5 days prior to the meeting date.

Dated: June 21, 2011.
Tracey L. Thompson,
Acting Director, Office of Sustainable Fisheries, National Marine Fisheries Service.

[FR Doc. 2011-15929 Filed 6-24-11; 8:45 am]

BILLING CODE 3510-22-P